DEPARTMENT OF ENERGY

Federal Energy Regulatory Commission

[Project No. 4009-001]

Henwood Associates, Inc.; White Mountain Ranch, LLC; Notice of Transfer of Exemption

By letter filed June 8, 2011, Henwood Associates, Inc. informed the Commission that its exemption from licensing for the Millner Creek Hydro Project No. 4009, originally issued July 16, 1981,¹ has been transferred to White Mountain Ranch, LLC. The project is located on the Millner Creek Water System in Mono County, California. The transfer of an exemption does not require Commission approval.

¹ Henwood Associates, Inc., 16 FERC ¶ 62,075 (1981).

White Mountain Ranch, LLC, located at 30130 Cabrillo Avenue, Temecula, California, is now the exemptee of the Millner Creek Hydro Project No. 4009.

Dated: July 11, 2011.
Kimberly D. Bose,
Secretary.

[FR Doc. 2011-17987 Filed 7-15-11; 8:45 am]

BILLING CODE 6717-01-P